FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel-Operating Common Carrier—Ocean Transportation Intermediary:

Vinpac Container Line (LA), Inc., 470 Cloverleaf Drive, Unit #A&B, Baldwin Park, CA 91706, Officers: Wai (aka Winson) M. Lam, Secretary/General Manager, (Qualifying Individual), Norman Lok, President/Treasurer.

Non-Vessel-Operating Common Carrier and Ocean Freight Forwarder Transportation Intermediary:

Zust Bachmeier International, Inc. dba Z Lines, 6201 Rankin Road, Humble, TX 77396, Officers: Neal Dewey, Vice President, (Qualifying Individual), Robert D. Johnston, President/CEO.

Grupo Broker Corp., 2231 NW. 79th Avenue, Doral, FL 33122, Officers: Vicente Memoli, Treasurer, (Qualifying Individual), Rafael Apitz, President.

Lama Shipping & Logistics, LLC, 10651 SW. 108 Avenue, #3A, Miami, FL 33176, Officers: Lorenzo A. Macias, President, (Qualifying Individual), Marisol A. Macias, Manager.

Golden Bridge International Group, 17800 Castleton Street, #263, City of Industry, CA 91748, Officers: Hua Yang, Vice President, (Qualifying Individual), Zhenfen Wu, Chairman.

Qingfeng Wang dba Global Intertrans Logistics, 200 East Norwood Place, San Gabriel, CA 91776-3811, Officer: Qingfeng Wang, Sole Proprietor, (Qualifying Individual).

TMO Global Logistics, LLC, 100 10th Street NE, #303, Charlottesville, VA 22902, Officer: Thomas Baldwin, Managing Director, (Qualifying Individual).

America Global Logistics LLC, 1335 NW. 98th Court, Suite 1, Miami, FL 33172, Officers: Olga L. Calderon, Operations Manager, (Qualifying Individual), Alejo Aguilar, Managing Director.

Clark Worldwide Transportation, Inc., 121 New York Avenue, Hillside Bldg., Trenton, NJ 08638, Officers: Brian G. Gillen, President/COO, (Qualifying Individual), Gregory E. Burns, Director.

Supply Chain Services, LLC, 847 West Avenue, Bldg. 10, Rochester, NY 14611, Officers: Thomas H. Iuppa, President/Member, (Qualifying Individual), James H. Wigton, Member.

Transplace International, Inc., 509 Enterprise Drive, Lowell, AR 72745, Officers: Sheila H. Hewitt, Vice President of Logistics, (Qualifying Individual), Thomas Sanderson, Director/Chairman/President/CEO.

MER Logis, Inc., 454 E. Carson Plaza Drive, #218, Carson, CA 90746, Officers: Ellen H. Lee, President/Secretary/CFO/Treasurer, (Qualifying Individual). Man S. Kyung, Shareholder.

Ocean Freight Forwarder—Ocean Transportation Intermediary:

Gulfstream Global Logistics, Inc., 1905 South Mt. Prospect Road, Des Plaines, IL 60018-1806, Officers: Jean De Keyser, President/CEO, (Qualifying Individual), Francine Van Meenen, Vice President.

Dated: March 12, 2010.
Karen V. Gregory,
Secretary.

[FR Doc. 2010-5823 Filed 3-16-10; 8:45 am]

BILLING CODE 6730-01-P